DEPARTMENT OF TRANSPORTATION

Federal Highway Administration

Notice of Final Federal Agency Actions on Proposed Highway in Rhode Island

AGENCY: Federal Highway Administration (FHWA), DOT.

ACTION: Notice of Limitation on Claims for Judicial Review of Actions by FHWA and Other Federal Agencies.

SUMMARY: This notice announces actions taken by FHWA and other Federal agencies that are final within the meaning of 23 U.S.C. 139(l)(1). The actions relate to a proposed highway project, Improvements to the U.S. Route 6/Route 10 Interchange in Providence County in the State of Rhode Island. Those actions grant licenses, permits, and approvals for the project.

DATES: By this notice, the FHWA is advising the public of final agency actions subject to 23 U.S.C. 139(l)(1). A claim seeking judicial review of the Federal agency actions on the highway project will be barred unless the claim is filed on or before January 25, 2007. If the Federal law that authorizes judicial review of a claim provides a time period of less than 180 days for filing such claim, then that shorter time period still applies.

FOR FURTHER INFORMATION CONTACT: Ms. Lucy Garliauskas, Division Administrator, Federal Highway Administration, 380 Westminster Mall, Providence, Rhode Island 02903; e-mail: Lucy.Garliauskas@fhwa.dot.gov; telephone: (401) 528-4544. The FHWA Rhode Island Division Office's normal business hours are 7:45 a.m. to 4:15 p.m. (Eastern Time). You may also contact Mr. Edmund T. Parker, Jr., P.E., Rhode Island Department of Transportation, Two Capitol Hill, Providence, Rhode Island 02903; telephone: (401) 222-2023, extension 4100.

SUPPLEMENTARY INFORMATION: Notice is hereby given that the FHWA and other Federal agencies have taken final agency actions by issuing licenses, permits, and approvals for the following highway project in the State of Rhode Island: Improvements to the U.S. Route 6/Route 10 Interchange in Providence County. The project would involve reconstruction of the U.S. Route 6/Route 10 Interchange on new location, construction of new bridges, and completing all movements of the interchange. The project would include U.S. Route 6 from approximately 1000 feet west of the Hartford Avenue Interchange easterly to Atwells Avenue, and Rhode Island State Route 10 from the Cranston Viaduct to U.S. Route 6.

The actions by the Federal agencies, and the laws under which such actions were taken, are described in the Final Environmental Impact Statement (FEIS) for the project, approved on December 5, 2005, in the FHWA Record for Decision (ROD) issued on June 9, 2006, and in other documents in the FHWA, administrative record. The FEIS, ROD, and other documents in the FHWA administrative record file are available by contacting the FHWA or the Rhode Island Department of Transportation at the addresses provided above. The FEIS and ROD can be viewed and downloaded from the project Web site at http://www.dot.state.ri.us/ or viewed at public libraries in the project area.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 3031.

4. Wildlife: Endangered Species Act [16 U.S.C. 1531-1544 and Section 1536], Fish and Wildlife Coordination Act [16 U.S.C. 661-667(d)].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (Section 404, Section 401, Section 319); Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m) 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1).

Issued on: July 28, 2006.
Lucy Garliauskas,
Division Administrator, Rhode Island Division, Federal Highway Administration.

[FR Doc. 06-6439 Filed 7-24-06; 8:45 am]

BILLING CODE 4910-22-M